NUCLEAR REGULATORY COMMISSION

Reactor Oversight Process Initial Implementation Evaluation Panel; Meeting Notice

Pursuant to the Federal Advisory Committee Act of October 6, 1972 (Pub. L., 94-463, Stat. 770-776) the U.S. Nuclear Regulatory Commission (NRC), on October 2, 2000, announced the establishment of the Reactor Oversight Process Initial Implementation Evaluation Panel (IIEP). The IIEP functions as a cross-disciplinary oversight group to independently monitor and evaluate the results of the first year of implementation of the Reactor Oversight Process (ROP). A Charter governing the IIEP functions as a Federal Advisory Committee was filed with Congress on October 17, 2000, after consultation with the Committee Management Secretariat, General Services Administration. The IIEP will hold its sixth meeting on April 25, 2001, in the ACRS Conference Room T-2B3, located at the U.S. Nuclear Regulatory Commission, 11545 Rockville Pike, Rockville, Maryland.

The IIEP meeting participants are listed below along with their affiliation:

A. Randolph Blough—U.S. Nuclear Regulatory Commission

Kenneth Brockman—U.S. Nuclear Regulatory Commission

Mary Ferdig—Ph.D. Candidate, Organization Development Program, Benedictine University; Ferdig Inc. Organizational Research and Development

Steve Floyd—Nuclear Energy Institute

David Garchow—PSEG Nuclear

Rod Krich—Exelon Corporation

Robert Laurie—California Energy Commission

James Moorman, III—U.S. Nuclear Regulatory Commission

Loren Plisco—U.S. Nuclear Regulatory Commission

Steven Reynolds—U.S. Nuclear Regulatory Commission

A. Edward Scherer—Southern California Edison Company

James Setser—Georgia Department of Natural Resources

Raymond Shadis—New England Coalition on Nuclear Pollution

James Trapp—U.S. Nuclear Regulatory Commission

A tentative agenda of the meeting is outlined as follows:

April 25, 2001

8:00 am Introduction / Meeting Objectives and Goals / Review of Meeting Minutes from April 2-3, 2001

8:30 am Discussion on Draft Panel Report

12:00 pm Lunch

1:00 pm Discussion on Draft Panel Report

4:00 pm Public Comments/General Discussion/Agenda Planning

5:00 pm Adjourn

Meetings of the IIEP are open to the members of the public. Oral or written views may be presented by the members of the public, including members of the nuclear industry. Persons desiring to make oral statements should notify Mr. Loren R. Plisco (Telephone 404/562-4501, e-mail LRP@nrc.gov) or Mr. John D. Monninger (Telephone 301/415-3495, e-mail JDM@nrc.gov) five days prior to the meeting date, if possible, so that appropriate arrangements can be made to allow necessary time during the meeting for such statements. Use of still, motion picture, and television cameras will be permitted during this meeting.

Further information regarding topics of discussion; whether the meeting has been canceled, rescheduled, or relocated; and the Panel Chairman's ruling regarding requests to present oral statements and time allotted, may be obtained by contacting Mr. Loren R. Plisco or Mr. John D. Monninger between 8:00 a.m. and 4:30 p.m. EST.

IIEP meeting transcripts and meeting reports will be available from the Commission's Public Document Room. Transcripts will be placed on the agency's web page.

Dated: April 11, 2001.
Andrew Bates,
Advisory Committee Management Officer.

[FR Doc. 01-9472 Filed 4-16-01; 8:45 am]

BILLING CODE 7590-01-P